DEPARTMENT OF TRANSPORTATION

Federal Aviation Administration

Noise Exposure Map Notice; Receipt of Noise Compatibility Program and Request for Review, Lake Charles Regional Airport, Lake Charles, LA

AGENCY: Federal Aviation Administration, DOT.

ACTION: Notice.

SUMMARY: The Federal Aviation Administration (FAA) announces its determination that the noise exposure maps submitted by Airport District No. 1, Calcasieu Parish, Louisiana, for Lake Charles Regional Airport under the provisions of title 49 U.S.C, chapter 475 (hereinafter referred to as “Title 49”) and 14 CFR part 150 are in compliance with applicable requirements. The FAA also announces that it is reviewing a proposed noise compatibility program that was submitted for Lake Charles Regional Airport under Part 150 in conjunction with the noise exposure maps and that this program will be approved or disapproved on or before August 5, 2002.

EFFECTIVE DATE: The effective date of the FAA's determination on the noise exposure maps and the start of its review of the associated noise compatibility program is February 5, 2002. The public comment period ends March 17, 2002.

FOR FURTHER INFORMATION CONTACT: Mr Michael J. Saupp, Department of Transportation, Federal Aviation Administration, Fort Worth, Texas, 76193-0640, (817) 222-5645. Comments on the proposed noise compatibility program should also be submitted to the above office.

SUPPLEMENTARY INFORMATION: This notice announces that the FAA finds that the noise exposure maps submitted for Lake Charles Regional Airport are in compliance with applicable requirements of Part 150, effective February 5, 2002. Further, FAA is reviewing a proposed noise compatibility program for that airport which will be approved or disapproved on or before August 5, 2002. This notice also announces the availability of this program for public review and comment.

Under title 49, an airport operator may submit to the FAA noise exposure maps, which meet applicable regulations, and which depict noncompatible land uses as of the date of submission of such maps, a description of projected aircraft operations, and the ways in which such operations will affect such maps. Title 49 requires such maps to be developed in consultation with interested and affected parties in the local community, government agencies, and persons using the airport.

An airport operator who has submitted noise exposure maps that are found by the FAA to be in compliance with the requirements of Federal Aviation Regulations (FAR) Part 150, promulgated pursuant to title 49, may submit a noise compatibility program for FAA approval which sets forth the measures the operator has taken or proposes for the reduction of existing noncompatible uses and for the prevention of the introduction of additional noncompatible uses.

Airport District No. 1, Calcasieu Parish, Louisiana, submitted to the FAA on December 18, 2000, noise exposure maps, descriptions and other documentation which were produced during the FAR Part 150 Noise Study initiated by Federal Grant 3-22-0026-21 on August 17, 1999. It was requested that the FAA review this material as the noise exposure maps, as described in Title 49, and that the noise mitigation measures, to be implemented jointly by the airport and surrounding communities, be approved as a noise compatibility program under title 49.

The FAA has completed its review of the noise exposure maps and related descriptions submitted by Airport District No. 1, Calcasieu Parish. The specific maps under consideration are Exhibit 6-1, 1999 DNL Noise Contours, Exhibit 6-2, 2004 DNL Noise Contours, Appendix Exhibit 1, and 2020 DNL Noise contours in the submission.

The FAA has determined that these maps for Lake Charles Regional Airport are in compliance with applicable requirements. This determination is effective on February 5, 2002. FAA's determination on an airport operator's noise exposure maps is limited to a finding that the maps were developed in accordance with the procedures contained in Appendix A of FAR Part 150. Such determination does not constitute approval of the applicant's data, information, or plans, or a commitment to approve a noise compatibility program or to fund the implementation of that program.

If questions arise concerning the precise relationship of specific properties to noise exposure contours depicted on a noise exposure map submitted under section 103 of the Act, it should be noted that the FAA is not involved in any way in determining the relative locations of specific properties with regard to the depicted noise contours, or in interpreting the noise exposure maps to resolve questions concerning, for example, which properties should be covered by the provisions of title 49. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under Title 49. The FAA has relied on the certification by the airport operator, under section 150.21 of FAR part 150, that the statutorily required consultation has been accomplished.

The FAA has formally received the noise compatibility program for Lake Charles Regional Airport, also effective on February 5, 2002. Preliminary review of the submitted material indicates that it conforms to the requirements for the submittal of noise compatibility programs, but that further review will be necessary prior to approval or disapproval of the program. The formal review period, limited by law to a maximum of 180 days, will be completed on or before August 5, 2002.

The FAA's detailed evaluation will be conducted under the provisions of 14 CFR part 150, section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program with specific reference to these factors. The FAA to the extent will consider all comments, other than those properly addressed to local land use authorities, practicable. Copies of the noise exposure maps, the FAA's evaluation of the maps, and the proposed noise compatibility program are available for examination at the following locations:

Federal Aviation Administration, Airports Division, 2601 Meacham Boulevard, Fort Worth, Texas 76137

Lake Charles Regional Airport, Mr. Alan Kratzer, Airport Manager, P.O. Box 5820, Lake Charles, LA 70606-5820, (337) 477-6051.

Questions may be directed to the individual named above under the heading, FOR FURTHER INFORMATION CONTACT.

Issued in Forth Worth, Texas, February 5, 2002.
William J. Flanagan,
Acting Manager, Airports Division.

[FR Doc. 02-5214 Filed 3-4-02; 8:45 am]

BILLING CODE 4910-13-M